Title 3—

The President

Proclamation 9228 of January 16, 2015

Martin Luther King, Jr., Federal Holiday, 2015

By the President of the United States of America

A Proclamation

A champion for justice, the Reverend Dr. Martin Luther King, Jr., helped awaken our Nation's long-slumbering conscience and inspired a generation. Through a cacophony of division and hatred, his voice rang out, challenging America to make freedom a reality for all of God's children and prophesying a day when the discord of our Union would be transformed into a symphony of brotherhood. His clarion call echoed the promise of our founding—that each of us are created equal—and every day he worked to give meaning to this timeless creed.

Today, we pause to pay tribute to the extraordinary life and legacy of Dr. King, and we reflect on the lessons he taught us. Dr. King understood that equality requires more than the absence of oppression; it requires the presence of economic opportunity. He recognized that “we are caught in an inescapable network of mutuality, tied in a single garment of destiny.” In a world full of poverty, he called for empathy; in the face of brutality, he placed his faith in non-violence. His teachings remind us we have a duty to fight against poverty, even if we are wealthy; to care about the child in the decrepit school long after our own children have found success; and to show compassion toward the immigrant family, knowing that we were strangers once, too. Dr. King transformed the concepts of justice, liberty, and equality, and as he led marches and protests and raised his voice, he changed the course of history.

From Dr. King's courage, we draw strength and the resolve to continue climbing toward the promised land. Our Nation has made undeniable progress since his time, but securing these gains requires constant vigilance, not complacency. We have more to do to bring Dr. King's dream within reach of all our daughters and sons. We must stand together for good jobs, fair wages, safe neighborhoods, and quality education. With one voice, we must ensure the scales of justice work equally for all—considering not only how justice is applied, but also how it is perceived and experienced. As Dr. King told us, “injustice anywhere is a threat to justice everywhere,” and this remains our great unfinished business.

Through struggle and discipline, persistence and faith, patriots and prophetic leaders like Dr. King have driven our country inexorably forward. In every chapter of our great story, giants of history and unheralded foot soldiers for justice have fought to bridge the gap between our founding ideals and the realities of the time. We will never forget all who endured and sacrificed, or those who gave their lives, so that our children might live in a freer, fairer, and more just society.

In sermons and speeches, Dr. King's voice rang out with a call for us to work toward a better tomorrow. As we honor his legacy, Americans across the country will join one another for a day of service, picking up the baton handed to us by past generations and carrying forward their efforts. As one people, we will show when ordinary citizens come together to participate in the democracy we love, justice will not be denied.

NOW, THEREFORE, I, BARACK OBAMA, President of the United States of America, by virtue of the authority vested in me by the Constitution and the laws of the United States, do hereby proclaim January 19, 2015, as the Martin Luther King, Jr., Federal Holiday. I encourage all Americans to observe this day with appropriate civic, community, and service projects in honor of Dr. King and to visit www.MLKDay.gov to find Martin Luther King, Jr., Day of Service projects across our country.

IN WITNESS WHEREOF, I have hereunto set my hand this sixteenth day of January, in the year of our Lord two thousand fifteen, and of the Independence of the United States of America the two hundred and thirty-ninth.

[FR Doc. 2015-01254

Filed 1-21-15; 11:15 am]

Billing code 3295-F5